DEPARTMENT OF THE INTERIOR

Bureau of Reclamation

[RR02015200, 14XR0687NA, RX185279076000000]

Notice of Availability of the Upper San Joaquin River Basin Storage Investigation Draft Environmental Impact Statement, Madera and Fresno Counties, California

AGENCY: Bureau of Reclamation, Interior.

ACTION: Notice.

SUMMARY: The Bureau of Reclamation has made available for public review and comment, the Upper San Joaquin River Basin Storage Investigation Draft Environmental Impact Statement (EIS). The Draft EIS describes the potential environmental effects of the No-Action Alternative and five action alternatives for a multiple purpose dam and reservoir to increase water storage for agricultural, municipal, and environmental uses, and improve regional water management flexibility.

DATES: Send written comments on the Draft EIS on or before October 21, 2014.

Two hearings will be held on the following dates:

1. Tuesday, October 14, 2014, 1 p.m. to 3 p.m., Sacramento, CA.

2. Thursday, October 16, 2014, 6 p.m. to 8 p.m., Fresno, CA.

ADDRESSES: Send written comments or requests for copies to Ms. Melissa Harris, Project Manager, Bureau of Reclamation, 2800 Cottage Way, Sacramento, CA 95825, or via email to sha-mpr-usjrbsi@usbr.gov. The Draft EIS is also accessible from the following Web site: http://www.usbr.gov/mp/sccao/storage/index.html.

The hearing locations are:

1. Sacramento—Bureau of Reclamation, Mid-Pacific Region, 2800 Cottage Way, Sacramento, California 95825.

2. Fresno—Piccadilly Inn, 2305 West Shaw Avenue, Fresno, California 93711.

FOR FURTHER INFORMATION CONTACT: Ms. Melissa Harris, Project Manager, 916-978-5075; or by email at sha-mpr-usjrbsi@usbr.gov.

SUPPLEMENTARY INFORMATION: The Draft EIS documents the potential direct, indirect, and cumulative physical, biological, and socioeconomic environment effects that may result from the development of a new storage reservoir.

The Draft EIS evaluates construction and operation of storage (1.26 million acre-feet) and single or selective level intake structures. The primary project objectives are to: (1) Increase water supply reliability and system operational flexibility for agricultural, municipal and industrial (M&I), and environmental purposes in the Friant Division, other San Joaquin Valley areas, and other regions; and (2) enhance water temperature and flow conditions in the San Joaquin River downstream from Friant Dam for salmon and other fish. The secondary objectives are to: (1) Reduce flood damages downstream from Friant Dam; (2) maintain the value of hydropower attributes; (3) maintain and increase recreational opportunities in the primary study area; (4) improve San Joaquin River water quality downstream of Friant Dam; and (5) improve the quality of water supplies delivered to urban areas.

The primary study area encompasses the San Joaquin River upstream from Friant Dam (about 20 miles northeast of Fresno) to Kerckhoff Dam, including Millerton Lake and the area that would be inundated by the proposed reservoir; and areas that could be directly affected by construction-related activities, including the footprint of proposed temporary and permanent facilities upstream of Friant Dam. The Extended Study Area includes the San Joaquin River downstream from Friant Dam, including the Delta; lands served by San Joaquin River water rights; the Central Valley Project (CVP); and south-of-Delta water service areas of the CVP and State Water Project, Sacramento River watershed, the Delta, and the Central Valley Project and State Water Project service areas.

Authority

Reclamation was authorized in Public Law 108-7 (Omnibus Appropriations Act of 2003) to conduct a feasibility-level investigation. Subsequent authorization and funding was provided in Public Law 108-361 (Bay-Delta Authorization Act of 2004).

Public Review of Draft EIS

Copies of the Draft EIS are available for public review at the following locations:

1. Bureau of Reclamation, Mid-Pacific Region, Regional Library, 2800 Cottage Way, Sacramento, CA 95825.

2. Bureau of Reclamation, Denver Office Library, Building 67, Room 167, Denver Federal Center, 6th and Kipling, Denver, CO 80225.

3. Natural Resources Library, U.S. Department of the Interior, 1849 C Street NW., Main Interior Building, Washington, DC 20240-0001.

Special Assistance for Public Hearings

If special assistance is required at the public hearings, please contact Mr. Steve Geissinger, Bureau of Reclamation, Public Affairs Office, at sgeissinger@usbr.gov. Please notify Mr. Geissinger as far in advance as possible to enable Reclamation to secure the needed services. If a request cannot be honored, the requestor will be notified. A telephone device for the hearing impaired (TDD) is available at 916-978-5608.

Public Disclosure

Before including your address, phone number, email address, or other personal identifying information in your comment, you should be aware that your entire comment—including your personal identifying information—may be made publicly available at any time. While you can ask us in your comment to withhold your personal identifying information from public review, we cannot guarantee that we will be able to do so.

Dated: August 20, 2014.
Pablo R. Arroyave,
Deputy Regional Director, Mid-Pacific Region.

[FR Doc. 2014-21025 Filed 9-4-14; 8:45 am]

BILLING CODE 4310-MN-P